DEPARTMENT OF THE INTERIOR

National Park Service

Notice of Inventory Completion: Slater Museum of Natural History, University of Puget Sound, Tacoma, WA

AGENCY: National Park Service, Interior.

ACTION: Notice.

Notice is here given in accordance with the Native American Graves Protection and Repatriation Act (NAGPRA), 25 U.S.C. 3003, of the completion of an inventory of human remains in the possession of the Slater Museum of Natural History, University of Puget Sound, Tacoma, WA. The human remains were removed from Siskiyou County, CA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Slater Museum of Natural History, University of Puget Sound professional staff and a consultant in consultation with representatives of the Klamath Tribes, Oregon and Modoc Tribe of Oklahoma.

In 1925, human remains representing a minimum of one individual were removed from near Lower Klamath Lake, Siskiyou County, CA, by Stanley G. Jewett. Mr. Jewett donated the human remains to the museum in 1955. No known individual was identified. No associated funerary objects are present.

In July 1925, human remains representing a minimum of one individual were removed from Tule Lake, Siskiyou County, CA, by Mr. Jewett. Mr. Jewett donated the human remains to museum in 1955. No known individual was identified. No associated funerary objects are present.

The individuals are most likely of Native American ancestry as indicated by morphological features. The geographical location where the human remains were recovered is consistent with the historically documented territory of the Klamath tribes. The Klamath Tribes, Oregon and Modoc Tribe of Oklahoma have a shared ancestry. Following the conclusion of the Modoc wars, the Modoc people were relocated to Oklahoma. In 1888, the Modoc reservation was established. In 1909, the Modoc were granted permission to return to Oregon. Those who returned became part of the Klamath Tribes, Oregon. The Klamath Tribes, Oregon and Modoc Tribe of Oklahoma have formally agreed that repatriations of human remains from the historically documented territory of the Klamath tribes should go to the Klamath Tribes, Oregon for reburial.

Based on provenience, historical documentation, and tribal consultation, officials of the Slater Museum of Natural History, University of Puget Sound reasonably believe that the human remains share a common ancestry with members of the Klamath and Modoc tribes. Descendants of the Klamath and Modoc tribes are members of the Klamath Tribes, Oregon and Modoc Tribe of Oklahoma.

Officials of the Slater Museum of Natural History have determined that, pursuant to 25 U.S.C. 3001 (9-10), the human remains described above represent the physical remains of two individuals of Native American ancestry. Officials of the Slater Museum of Natural History also have determined that, pursuant to 25 U.S.C. 3001 (2), there is a relationship of shared group identity that can be reasonably traced between the Native American human remains and the Klamath Tribes, Oregon and the Modoc Tribe of Oklahoma.

Representatives of any other Indian tribe that believes itself to be culturally affiliated with the human remains should contact Dr. Peter Wimberger, Slater Museum of Natural History, 1500 N. Warner, Tacoma, WA 98416, (253) 879-2784, before October 19, 2007. Repatriation of the human remains to the Klamath Tribes, Oregon may proceed after that date if no additional claimants come forward.

The Slater Museum of Natural History, University of Puget Sound is responsible for notifying the Klamath Tribes, Oregon and Modoc Tribe of Oklahoma that this notice has been published.

Dated: August 29, 2007.
Sherry Hutt,
Manager, National NAGPRA Program.

[FR Doc. E7-18481 Filed 9-18-07; 8:45 am]

BILLING CODE 4312-50-S